DEPARTMENT OF DEFENSE

GENERAL SERVICES ADMINISTRATION

NATIONAL AERONAUTICS AND SPACE ADMINISTRATION

48 CFR Parts 1, 2, 3, 4, 5, 6, 7, 8, 9, 11, 16, 17, 19, 22, 26, 30, 31, 45, 50, 52, and 53

[FAC 2019-02; Item III; Docket No. 2019-0002; Sequence No. 1]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make needed editorial changes.

DATES: Effective: May 6, 2019.

FOR FURTHER INFORMATION CONTACT: Ms. Lois Mandell, Regulatory Secretariat Division (MVCB), 1800 F Street NW, 2nd Floor, Washington, DC 20405, 202-501-4755. Please cite FAC 2019-02, Technical Amendments.

SUPPLEMENTARY INFORMATION: In order to update certain elements in 48 CFR parts 1, 2, 3, 4, 5, 6, 7, 8, 9, 11, 16, 17, 19, 22, 26, 30, 31, 45, 50, 52 and 53 this document makes editorial changes to the FAR.

List of Subjects in 48 CFR Parts 1, 2, 3, 4, 5, 6, 7, 8, 9, 11, 16, 17, 19, 22, 26, 30, 31, 45, 50, 52, and 53

Government procurement.

Dated: March 19, 2019.
William F. Clark,
Director, Office of Government-wide Acquisition Policy, Office of Acquisition Policy, Office of Government-wide Policy.

Therefore, DoD, GSA, and NASA amend 48 CFR parts 1, 2, 3, 4, 5, 6, 7, 8, 9, 11, 16, 17, 19, 22, 26, 30, 31, 45, 50, 52 and 53 as set forth below:

1. The authority citation for 48 CFR parts 1, 2, 3, 4, 5, 6, 7, 8, 9, 11, 16, 17, 19, 22, 26, 30, 31, 45, 50, 52 and 53 continues to read as follows:

Authority: 40 U.S.C. 121(c); 10 U.S.C. chapter 137; and 51 U.S.C. 20113.

PART 1—FEDERAL ACQUISITION REGULATIONS SYSTEM

2. Revise section 1.105-3 to read as follows:

1.105-3 Copies.

Copies of the FAR in CFR form may be purchased from the Bookstore of the Government Publishing Office (GPO), Washington, DC 20402.

3. Amend section 1.201-1 by—

a. Revising paragraph (b); and

b. Removing from paragraph (c) “the Defense Contract Management Agency, and the National Aeronautics and Space Administration” and adding “and the Defense Contract Management Agency” in its place.

The revision reads as follows:

1.201-1 The two councils.

* * * * *

(b) The chairperson of the CAA Council shall be the representative of the Administrator of General Services. The other members of this council shall be one each representative from the—

(1) Departments of Agriculture, Commerce, Education, Energy, Health and Human Services, Homeland Security, Housing and Urban Development, Interior, Justice, Labor, State, Transportation, and Treasury; and

(2) Environmental Protection Agency, National Aeronautics and Space Administration, Social Security Administration, Small Business Administration, and U.S. Agency for International Development.

* * * * *

PART 2—DEFINITIONS OF WORDS AND TERMS

4. Amend section 2.101 by—

a. Removing from paragraph (b) introductory text “(48 CFR chapter 1” and adding “(48 CFR chapter 1)” in its place; and

b. In paragraph (b)(2):

i. Revising the defined term “Computer software”;

ii. In the defined term “F.o.b.”, removing “* * *” and adding “. . .” in its place;

iii. In the defined term “May”, removing “* * *” and adding “. . .” in its place;

iv. In the defined term “Signature or signed”, removing “an individual which, when” and adding “an individual that, when” in its place;

v. In the defined term “Technical data”, removing “(See 41 U.S.C. 116))” and adding “(see 41 U.S.C. 116)” in its place;

vi. In the defined term “United States”, removing “Subpart” and “Part” and adding “subpart” and “part” in their places, wherever they appear; and

vii. Revising paragraph (1) of the defined term “Value engineering change proposal (VECP)”.

The revision reads as follows:

2.101 Definitions.

* * * * *

(b) * * *

(2) * * *

Computer software—(1) Means—

(i) Computer programs that comprise a series of instructions, rules, routines, or statements, regardless of the media in which recorded, that allow or cause a computer to perform a specific operation or series of operations; and

(ii) Recorded information comprising source code listings, design details, algorithms, processes, flow charts, formulas, and related material that would enable the computer program to be produced, created, or compiled.

(2) Does not include computer databases or computer software documentation.

Value engineering change proposal (VECP)—(1) Means a proposal that—

(i) Requires a change to the instant contract to implement; and

(ii) Results in reducing the overall projected cost to the agency without impairing essential functions or characteristics, provided, that it does not involve a change—

(A) In deliverable end item quantities only;

(B) In research and development (R&D) items or R&D test quantities that are due solely to results of previous testing under the instant contract; or

(C) To the contract type only.

* * * * *

PART 3—IMPROPER BUSINESS PRACTICES AND PERSONAL CONFLICTS OF INTEREST

3.103-2 [Amended]

5. Amend section 3.103-2 by—

a. Removing from paragraph (a)(1) introductory text “subparagraph (a)(2)” and adding “paragraph (a)(2)” in its place;

b. Removing from paragraph (a)(2) introductory text “subparagraph (b)(2)” and adding “paragraph (b)(2)” in its place;

c. Removing from paragraph (b)(1) “modified subparagraph (a)(1) or (a)(3)” and adding “modified paragraph (a)(1) or (3)” in its place;

d. Removing from paragraph (b)(2) “modified subparagraph (a)(2)” and adding “modified paragraph (a)(2)” in its place;

e. Removing from paragraph (b)(3) “under subparagraph (1) or (2) above” and adding “under paragraph (b)(1) or (2) of this section” in its place; and

f. Removing from paragraph (b)(4) “under subparagraph (2) above” and adding “under paragraph (2) of this section” in its place.

3.104-3 [Amended]

6. Amend section 3.104-3 by removing from paragraph (a) heading “information 41 U.S.C. 2102)” and adding “information (41 U.S.C. 2102)” in its place.

7. Amend section 3.301 by revising paragraph (b) to read as follows:

3.301 General.

* * * * *

(b) Contracting personnel are an important potential source of investigative leads for antitrust enforcement and should therefore be sensitive to indications of unlawful behavior by offerors and contractors. Agency personnel shall report, in accordance with agency regulations, evidence of suspected antitrust violations in acquisitions for possible referral to—

(1) The Attorney General under 3.303; and

(2) The agency office responsible for contractor debarment and suspension under subpart 9.4.

3.303 [Amended]

8. Amend section 3.303 by removing from paragraph (b), in the third sentence, “Paragraph (c) below” and adding “Paragraph (c) of this section” in its place.

3.405 [Amended]

9. Amend section 3.405 by removing from paragraph (b) introductory text “paragraph (a) above” and adding “paragraph (a) of this section” in its place.

10. Amend section 3.501-2 by revising paragraph (a) and removing from paragraph (c) “under “Formats for Submission of Line Item Summaries)” and adding “under “Formats for Submission of Line Item Summaries”)” in its place.

The revision reads as follows:

3.501-2 General.

(a) Buying-in may decrease competition or result in poor contract performance. The contracting officer must take appropriate action to ensure buying-in losses are not recovered by the contractor through the pricing of—

(1) Change orders; or

(2) Follow-on contracts subject to cost analysis.

* * * * *

11. Amend section 3.502-1 by removing from the defined term “Subcontract” “service” and adding “services” in its place and revising the definition of “Subcontractor” to read as follows:

3.502-1 Definitions.

* * * * *

Subcontractor—(1) Means any person, other than the prime contractor, who offers to furnish or furnishes any supplies, materials, equipment, or services of any kind under a prime contract or a subcontract entered into in connection with such prime contract; and

(2) Includes any person who offers to furnish or furnishes general supplies to the prime contractor or a higher tier subcontractor.

* * * * *

12. Amend section 3.502-2 by—

a. Removing from paragraph (b) “subsection” and adding “section” in its place;

b. Revising paragraph (d)(2);

c. Removing from paragraph (d)(3) “subsection” and adding “section” in its place; and

d. Removing from paragraphs (e) and (f) “under subparagraph (d)(2) of this subsection” and adding “under paragraph (d)(2) of this section” in its place.

The revision reads as follows:

3.502-2 Subcontractor kickbacks.

* * * * *

(d) * * *

(2) The contracting officer may direct a prime contractor to withhold from any sums owed to a subcontractor under a subcontract of the prime contract the amount of any kickback which was or may be offset against the prime contractor under paragraph (d)(1) of this section; and

* * * * *

Subpart 3.8—[Amended]

13. Amend the heading for subpart 3.8 by removing “To” and adding “to” in its place.

3.901 [Amended]

14. Amend section 3.901 by removing from the defined term “Inspector General”, “DOD Inspector General” and adding “DoD Inspector General” in its place.

15. Revise the heading of section 3.907-7 to read as follows:

3.907-7 Contract clause.

* * * * *

PART 4—ADMINISTRATIVE MATTERS

16. Remove subpart heading “Subpart 4.1—Contract Execution” and add a subpart heading before section 4.101 to read as follow:

Subpart 4.1—Contract Execution

4.102 [Amended]

17. Amend section 4.102 by removing from paragraph (d) “paragraphs (a) through (c) above” and adding “paragraphs (a) through (c) of this section” in its place and removing from paragraph (e) “paragraphs (a) through (d) above” and adding “paragraphs (a) through (d) of this section” in its place.

18. Amend section 4.201 by revising paragraph (e) to read as follows:

4.201 Procedures.

* * * * *

(e) Provide one copy of each contract or modification that requires audit service to the appropriate field audit office listed in the “Directory of Federal Contract Audit Offices” (see 42.103); and

* * * * *

4.202 [Amended]

19. Amend section 4.202 by removing “prescribed in 4.201 above” and adding “prescribed in 4.201” in its place.

4.402 [Amended]

20. Amend section 4.402 by—

a. Removing from paragraph (b) introductory text “requirements of these Executive Orders” and “DOD” and adding “requirements of these Executive orders” and “DoD” in their places, respectively; and

b. Removing from paragraphs (b)(1) and (2) “DOD” and adding “DoD” in their places, respectively.

21. Amend section 4.403 by revising paragraph (b)(2) to read as follows:

4.403 Responsibilities of contracting officers.

* * * * *

(b) * * *

(2) Include—

(i) An appropriate Security Requirements clause in the solicitation (see 4.404); and

(ii) As appropriate, in solicitations and contracts when the contract may require access to classified information, a requirement for security safeguards in addition to those provided in the clause (52.204-2, Security Requirements).

* * * * *

4.404 [Amended]

22. Amend section 4.404 by removing from paragraph (a) “paragraph (d) below” and adding “paragraphs (d) of this section” in its place.

4.604 [Amended]

23. Amend section 4.604 by removing from paragraph (b)(3) “FAR subpart 18.2” and adding “subpart 18.2” in its place.

4.607 [Amended]

24. Amend section 4.607 by removing from paragraph (b) “Unique Entity Identifier Number” and adding “Unique Entity Identifier” in its place.

25. Amend section 4.703 by revising paragraph (a) and removing from paragraph (b)(3) “specified in subparagraph” and adding “specified in paragraph” in its place to read as follows:

4.703 Policy.

(a) Except as stated in 4.703(b), contractors shall make available records, which includes books, documents, accounting procedures and practices, and other data, regardless of type and regardless of whether such items are in written form, in the form of computer data, or in any other form, and other supporting evidence to satisfy contract negotiation, administration, and audit requirements of the contracting agencies and the Comptroller General for—

(1) 3 years after final payment; or

(2) For certain records, the period specified in 4.705 through 4.705-3, whichever of these periods expires first.

* * * * *

26. Amend section 4.801 by revising paragraph (c)(3) to read as follows:

4.801 General.

* * * * *

(c) * * *

(3) A file such as a contractor general file, containing documents relating, for example, to—

(i) No specific contract;

(ii) More than one contract; or

(iii) The contractor in a general way (e.g., contractor's management systems, past performance, or capabilities).

27. Amend section 4.803 by—

a. Removing from paragraph (a)(10)(iii) “proposals;” and adding “proposals; and” in its place; and

b. Revising paragraph (a)(26).

The revision reads as follows:

4.803 Contents of contract files.

* * * * *

(a) * * *

(26) The original of—

(i) The signed contract or award;

(ii) All contract modifications; and

(iii) Documents supporting modifications executed by the contracting office.

* * * * *

28. Amend section 4.804-1 by removing from paragraph (a) introductory text “paragraph (c) below” and adding “paragraph (c) of this section” in its place and revising paragraph (c) to read as follows:

4.804-1 [Amended]

* * * * *

(c) A contract file shall not be closed if—

(1) The contract is in litigation or under appeal; or

(2) In the case of a termination, all termination actions have not been completed.

4.804-4 [Amended]

29. Amend section 4.804-4 by removing from paragraph (a) introductory text “paragraph (b) below” and adding “paragraph (b) of this section” in its place.

4.804-5 [Amended]

30. Amend section 4.804-5 by removing from paragraph (b) introductory text “paragraph (a) above” and adding “paragraph (a) of this section” in its place.

4.805 [Amended]

31. Amend section 4.805 by removing from paragraph (a) “Part 4” and adding in its place “this part” and in Table 4-1, under the Record column, by adding a period to the end of paragraphs (c)(1) through (8).

4.1005-2 [Amended]

32. Amend section 4.1005-2 by removing from paragraph (a)(1) “issuance: Accounting classification” and adding “issuance: accounting classification” in its place.

4.1200 [Amended]

33. Amend section 4.1200 by removing from paragraph (b) “Government;” and adding “Government; and” in its place.

Subpart 4.15—[Reserved]

34. Add reserved subpart 4.15.

4.1801 [Amended]

35. Amend section 4.1801 by removing from the defined term “Immediate owner” “the following: Ownership” and adding “the following: ownership” in its place.

PART 5—PUBLICIZING CONTRACT ACTIONS

5.207 [Amended]

36. Amend section 5.207 by removing from paragraph (a)(4) “Zip Code” and adding “ZIP Code” in its place.

37. Amend section 5.404-1 by revising paragraph (b)(3) to read as follows:

5.404-1 Release procedures.

* * * * *

(b) * * *

(3) Each release states that—

(i) The estimate is based on the best information available;

(ii) The information is subject to modification and is in no way binding on the Government; and

(iii) More specific information relating to any individual item or class of items will not be furnished until the proposed action is synopsized through the GPE or the solicitation is issued;

* * * * *

38. Amend section 5.501 by revising the defined term “Publication” to read as follows:

5.501 Definitions.

* * * * *

Publication means—

(1) The placement of an advertisement in a newspaper, magazine, trade or professional journal, or any other printed medium; or

(2) The broadcasting of an advertisement over radio or television.

39. Amend section 5.504 by revising paragraph (c) to read as follows:

5.504 Use of advertising agencies.

* * * * *

(c) Use of noncommission-paying media. Some media do not grant advertising agencies a commission or discount, meaning the Government can obtain the same rate as the advertising agency. If the advertising agency agrees to place advertisements in noncommission-paying media as a no-cost service, the basic ordering agreement shall so provide. If the advertising agency will not agree to place advertisements at no cost, the agreement shall—

(1) Provide that the Government may place orders directly with the media; or

(2) Specify an amount that the Government will pay if the agency places the orders.

* * * * *

5.601 [Amended]

40. Amend section 5.601 by removing from paragraphs (b)(1) and (2) “that website” and adding “that website” in their places, respectively.

41. Amend section 5.705 by—

a. In paragraph (b)(1), adding a period after “fixed-price” and removing “Required” and adding “required” in its place;

b. In paragraphs (b)(2) and (3), adding a period after “Required”;

c. In paragraph (b)(4), adding a period after “IDIQ contract” and removing “(2) or (3)” and adding “paragraph (b)(2) or (3) of this section” in its place;

d. In paragraph (b)(5), adding a period after “IDIQ contract” and removing “(e.g.)” and adding “(e.g.)” in its place;

e. In paragraph (b)(6), adding a period after “issued” and removing “(2) or (3) above” and “(4) or (5) above” and adding “paragraph (b)(2) or (3) of this section” and “paragraph (b)(4) or (5) of this section” in their places, respectively; and

f. In paragraph (b)(7):

i. Removing “e.g.” and adding “e.g.” in its place, wherever it appears;

ii. Adding a period after “program)”; and

iii. Removing “non-competitive” and adding “noncompetitive” in its place.

PART 6—COMPETITION REQUIREMENTS

6.001 [Amended]

42. Amend section 6.001 by removing from paragraph (a) “source acquisition of commercial” and adding “source acquisitions of commercial” in its place.

43. Amend section 6.102 by revising paragraph (b) and removing from paragraph (d)(2)(ii) “peer of scientific” and adding “peer or scientific” in its place to read as follows:

6.102 Use of competitive procedures.

* * * * *

(b) Competitive proposals. (See 6.401(b).) If sealed bids are not appropriate under paragraph (a) of this section, contracting officers shall request competitive proposals or use the other competitive procedures under paragraph (c) or (d) of this section.

* * * * *

6.202 [Amended]

44. Amend section 6.202 by removing from paragraph (b)(1) “authority of paragraph (a) above” and adding “authority of paragraph (a) of this section” in its place and removing from paragraph (b)(3) “the authority in (a)(1) above” and adding “the authority in paragraph (a)(1) of this section” in its place.

45. Amend section 6.301 by—

a. Removing from paragraph (a), in the second sentence, “National Aeronautics and Space Administration are subject to 41 U.S.C. 3304” and adding “National Aeronautics and Space Administration are subject to 10 U.S.C. 2304(c)” in its place; and

b. Revising paragraph (c).

The revision reads as follows:

6.301 Policy.

* * * * *

(c) Contracting without providing for full and open competition shall not be justified on the basis of—

(1) A lack of advance planning by the requiring activity; or

(2) Concerns related to the amount of funds available (e.g., funds will expire) to the agency or activity for the acquisition of supplies or services.

* * * * *

46. Amend section 6.302-1 by—

a. Revising paragraphs (a)(2)(ii) and (iii);

b. Removing from paragraph (b) introductory text “consitute” and adding “constitute” in its place; and

c. Revising paragraph (b)(1).

The revisions read as follows:

6.302-1 Only one responsible source and no other supplies or services will satisfy agency requirements.

(a) * * *

(2) * * *

(ii) Supplies may be deemed to be available only from the original source in the case of a follow-on contract for the continued development or production of a major system or highly specialized equipment, including major components thereof, when it is likely that award to any other source would result in—

(A) Substantial duplication of cost to the Government that is not expected to be recovered through competition; or

(B) Unacceptable delays in fulfilling the agency's requirements. (See 10 U.S.C. 2304(d)(1)(B) or 41 U.S.C. 3304(b)(2).)

(iii) For DoD, NASA, and the Coast Guard, services may be deemed to be available only from the original source in the case of follow-on contracts for the continued provision of highly specialized services when it is likely that award to any other source would result in—

(A) Substantial duplication of cost to the Government that is not expected to be recovered through competition; or

(B) Unacceptable delays in fulfilling the agency's requirements. (See 10 U.S.C. 2304(d)(1)(B).)

(b) * * *

(1) When there is a reasonable basis to conclude that the agency's minimum needs can only be satisfied by—

(i) Unique supplies or services available from only one source or only one supplier with unique capabilities; or

(ii) For DoD, NASA, and the Coast Guard, unique supplies or services available from only one or a limited number of sources or from only one or a limited number of suppliers with unique capabilities.

* * * * *

47. Amend section 6.302-2 by—

a. Revising paragraph (b);

b. Removing from paragraphs (d)(2)(i) and (ii) “(d)(1)(ii)” and adding “paragraph (d)(1)(ii)” in its place; and

c. Removing from paragraph (d)(3) “(d)(1) and (d)(2)” and adding “(d)(1) and (2)” in its place.

The revision reads as follows:

6.302-2 Unusual and compelling urgency.

* * * * *

(b) Application. This authority applies in those situations where—

(1) An unusual and compelling urgency precludes full and open competition; and

(2) Delay in award of a contract would result in serious injury, financial or other, to the Government.

* * * * *

6.302-3 [Amended]

48. Amend section 6.302-3 by—

a. Removing from paragraph (a)(2) introductory text “competition need not to be” and adding “competition need not be” in its place; and

b. Removing from the ends of paragraphs (a)(2)(i) and (ii) the comma and adding a semicolon in its place;

c. Removing from paragraph (b)(1) introductory text “(a)(2)(i) above” and adding “(a)(2)(i) of this section” in its place;

d. Removing from paragraph (b)(2) introductory text “(a)(2)(ii) above” and adding “(a)(2)(ii) of this section” in its place; and

e. Removing from paragraph (b)(2)(iii) “paragraphs (b)(2)(i) or (ii) above” and adding “paragraph (b)(2)(i) or (ii) of this section” in its place.

49. Amend section 6.302-5 by—

a. Revising paragraph (a)(2);

b. Removing from the ends of paragraphs (b)(1) and (3) the semicolon and adding a period in its place;

c. Removing from paragraph (c)(2)(i) “(a)(2)(ii) or (b)(2) of this subsection” and adding “paragraph (a)(2)(ii) or (b)(2) of this section”;

d. Removing from paragraph (c)(2)(ii) “(a)(2)(i) of this subsection” and adding “paragraph (a)(2)(i) of this section”;

e. Removing from paragraph (c)(2)(iii) “(b)(4) of this subsection” and adding “paragraph (b)(4) of this section” in its place; and

f. Removing from paragraph (c)(3) “(a)(2)(ii) of this subsection” and adding “paragraph (a)(2)(ii) of this section” in its place.

The revision reads as follows:

6.302-5 Authorized or required by statute.

(a) * * *

(2) Full and open competition need not be provided for when—

(i) A statute expressly authorizes or requires that the acquisition be made through another agency or from a specified source; or

(ii) The agency's need is for a brand name commercial item for authorized resale.

* * * * *

6.303-1 [Amended]

50. Amend section 6.303-1 by removing from paragraph (d) “required by paragraph (a) above” and adding “required by paragraph (a) of this section” in its place.

6.303-2 [Amended]

51. Amend section 6.303-2 by removing from paragraph (d)(3) “agency concerned.67” and adding “agency concerned.” in its place.

6.304 [Amended]

52. Amend section 6.304 by removing from paragraph (a)(2) “(a)(3) or (a)(4)” and adding “(a)(3) or (4)” in its place and removing from paragraph (a)(4) “Acquisition, Technology, and Logistics” and adding “Acquisition and Sustainment” in its place.

6.401 [Amended]

53. Amend section 6.401 by—

a. Removing from the introductory text “Parts” and adding “parts” in its place and removing “Subparts” and “Subpart” and adding “subparts” and “subpart” in their places, respectively; and

b. Removing from paragraph (b)(1) “under paragraph (a) above” and adding “under paragraph (a) of this section” in its place.

6.501 [Amended]

54. Amend section 6.501 by removing from paragraph (b) “inconsistent with 6.502 below” and adding “inconsistent with 6.502” in its place.

PART 7—ACQUISITION PLANNING

7.102 [Amended]

55. Amend section 7.102 by removing from paragraph (a)(1) “41 U.S.C. 3307;” and adding “41 U.S.C. 3307);” in its place and removing from paragraph (a)(2) “Part” and adding “part” in its place.

7.103 [Amended]

56. Amend section 7.103 by—

a. Removing from the introductory paragraph “procedures for—” and adding “procedures for the following:” in its place;

b. Removing from paragraph (a) “acquired (41 U.S.C. 3306(a)(1))” and adding “acquired (10 U.S.C. 2305(a)(1)(A) and 41 U.S.C. 3306(a)(1))” in its place;

c. Removing from the end of paragraph (b) “; and” and adding a period in its place;

d. Removing from the end of paragraphs (h), (i), and (k) the semicolon and adding a period in its place; and

e. Removing from the end of paragraph (l) “; and” and adding a period in its place.

57. Amend section 7.105 by—

a. Removing from the introductory text “(see paragraph (b)(21) below)” and “paragraphs (a) and (b) below” and adding “(see paragraph (b)(21) of this section)” and “paragraphs (a) and (b) of this section” in their places, respectively;

b. Revising paragraph (a)(2);

c. Removing from paragraphs (b)(4) introductory text, (b)(10), (b)(14)(i), and (b)(20)(v) “Subpart” and adding “subpart” in their places, respectively; and

d. Removing from paragraph (b)(21) in the list “Evaluations of proposals,” and adding “Evaluation of proposals,” in its place.

The revision reads as follows:

7.105 Contents of written acquisition plans.

* * * * *

(a) * * *

(2) Applicable conditions. State all significant conditions affecting the acquisition, such as—

(i) Requirements for compatibility with existing or future systems or programs; and

(ii) Any known cost, schedule, and capability or performance constraints.

* * * * *

7.106 [Amended]

58. Amend section 7.106 by removing from paragraph (c) “paragraphs (a) and (b) above” wherever it appears and adding “paragraphs (a) and (b) of this section” in its place.

7.107-5 [Amended]

59. Amend section 7.107-5 by removing from paragraph (b)(1) “publish on its website” and adding “publish on its website” in its place and removing from paragraph (d) “on their agency website” and adding “on their agency website” in its place.

60. Revise section 7.202 to read as follows:

7.202 Policy.

(a) Agencies are required by 10 U.S.C. 2384a and 41 U.S.C. 3310 to procure supplies in such quantity as—

(1) Will result in the total cost and unit cost most advantageous to the Government, where practicable; and

(2) Does not exceed the quantity reasonably expected to be required by the agency.

(b) Each solicitation for a contract for supplies is required, if practicable, to include a provision inviting each offeror responding to the solicitation—

(1) To state an opinion on whether the quantity of the supplies proposed to be acquired is economically advantageous to the Government; and

(2) If applicable, to recommend a quantity or quantities which would be more economically advantageous to the Government. Each such recommendation is required to include a quotation of the total price and the unit price for supplies procured in each recommended quantity.

61. Revise section 7.203 to read as follows:

7.203 Solicitation provision.

Contracting officers shall insert the provision at 52.207-4, Economic Purchase Quantity—Supplies, in solicitations for supplies. The provision need not be inserted if the solicitation is for a contract under the General Services Administration's multiple award schedule contract program, or if the contracting officer determines that—

(a) The Government already has the data;

(b) The data is otherwise readily available; or

(c) It is impracticable for the Government to vary its future requirements.

62. Amend section 7.503 by—

a. Removing from paragraph (c)(14) “conduct of Administrative” and adding “conduct of administrative” in its place;

b. Revising paragraph (c)(17) introductory text; and

c. Removing from paragraph (d)(3) “relate to analysis” and adding “relate to analyses” in its place.

The revision reads as follows:

7.503 Policy.

* * * * *

(c) * * *

(17) The collection, control, and disbursement of fees, royalties, duties, fines, taxes, and other public funds, unless authorized by statute, such as 31 U.S.C. 3718 (relating to private collection contractors and private attorney collection services), but not including—

* * * * *

PART 8—REQUIRED SOURCES OF SUPPLIES AND SERVICES

8.005 [Amended]

63. Amend section 8.005 by removing “Purchase from” and “must” and adding “Purchase From” and “shall” in their places, respectively.

8.402 [Amended]

64. Amend section 8.402 by—

a. Removing from paragraph (c)(1) “Subpart” and adding “subpart” in its place;

b. Removing from paragraph (e) “the following website” wherever it appears and adding “the following website” in its place; and

c. Removing from paragraph (f)(1) “Part” and “Parts” and adding “part” and “parts” in their places, respectively.

8.405-6 [Amended]

65. Amend section 8.405-6 by—

a. Removing from the introductory text “paragraphs” and adding “paragraph” in its place;

b. Removing from paragraph (b)(3)(i)(C) “(b)(2)(i)” and “subsection” and adding “(b)(2)(i) of this section” and “section” in their places, respectively;

c. Removing from paragraph (b)(4) “subsection” and adding “section” in its place;

d. Removing from paragraph (d)(2) “(d)(3) or (d)(4)” and adding “(d)(3) or (4)” in its place;

e. Adding at the end of paragraph (d)(3)(ii)(A) “or”; and

f. Removing from paragraph (d)(4) “Acquisition, Technology, and Logistics” and adding “Acquisition and Sustainment” in its place.

8.701 [Amended]

66. Amend section 8.701 by removing from the defined term “Committee” “Purchase from” and adding “Purchase From” in its place and removing from the defined term “Ordering office”, “under the JWOD Program” and adding “under the AbilityOne Program” in its place.

67. Amend section 8.703 by revising the heading to read as follows:

8.703 Procurement List.

* * * * *

8.705-2 [Amended]

68. Amend section 8.705-2 by removing from the first sentence of the paragraph “directly to a AbilityOne” and adding “directly to an AbilityOne” in its place.

8.714 [Amended]

69. Amend section 8.714 by removing from paragraph (b) “addressed to the” and adding “addressed to:” in its place.

8.802 [Amended]

70. Amend section 8.802 by removing from paragraph (a) introductory text “Government Printing Office (GPO)” and adding “Government Publishing Office (GPO)” in its place.

71. Amend section 8.1101 by revising the defined term “Motor vehicle” to read as follows:

8.1101 Definitions.

* * * * *

Motor vehicle means an item of equipment, mounted on wheels and designed for highway and/or land use, that—

(1) Derives power from a self-contained power unit; or

(2) Is designed to be towed by and used in conjunction with self-propelled equipment.

8.1104 [Amended]

72. Amend section 8.1104 by removing from paragraph (d) “(see subpart B of 41 CFR 102-34)” and adding “(see subpart B of 41 CFR part 102-34)” in its place.

PART 9—CONTRACTOR QUALIFICATIONS

73. Amend section 9.102 by revising paragraph (b) to read as follows:

9.102 Applicability.

* * * * *

(b) This subpart does not apply to proposed contracts with—

(1) Foreign, State, or local governments;

(2) Other U.S. Government agencies or their instrumentalities; or

(3) Agencies for people who are blind or severely disabled (see subpart 8.7).

9.104-1 [Amended]

74. Amend section 9.104-1 by—

a. Removing from paragraph (c) “(see 48 CFR 9.104-3(b) and part 42, subpart 42.15)” and adding “(see 9.104-3(b) and subpart 42.15)” in its place; and

b. In paragraph (d), removing “Subpart” and adding “subpart” in its place and removing the period at the end and adding a semicolon in its place.

9.104-7 [Amended]

75. Amend section 9.104-7 by removing from paragraph (c)(2) “the provision 52.209-7” and adding “the provision at 52.209-7” in its place and removing from paragraph (e) “the following agencies: The” and adding “the following agencies: the” in its place.

76. Amend section 9.105-1 by revising paragraph (b)(1) to read as follows:

9.105-1 Obtaining information.

* * * * *

(b)(1) Generally, the contracting officer shall obtain information regarding the responsibility of prospective contractors, including requesting preaward surveys when necessary (see 9.106), promptly after a bid opening or receipt of offers. However, in negotiated contracting, especially when research and development is involved, the contracting officer may obtain this information before issuing the request for proposals. Requests for information shall ordinarily be limited to information concerning—

(i) The low bidder; or

(ii) Those offerors in range for award.

* * * * *

9.107 [Amended]

77. Amend section 9.107 by removing from paragraph (d) “Purchase from” and adding “Purchase From” in its place.

9.202 [Amended]

78. Amend section 9.202 by—

a. Removing from paragraph (a)(2)(i) “qualified;” and adding “qualified; and” in its place;

b. Removing from paragraph (a)(3) “If the services in (a)(2)(ii) above” and adding “If the services in paragraph (a)(2)(ii) of this section” in its place;

c. Removing from paragraph (b), “requirements of 9.202(a)(1)(ii) through (4) above” and “9.202(a)(1)” and adding “requirements of paragraphs (a)(1)(ii) through (a)(4) of this section” and “paragraph (a)(1) of this section” in their place, respectively;

d. Removing from paragraphs (c)(1) and (2) “DOD” wherever it appears and adding “DoD” in its place;

e. Removing from paragraph (e) “9.202(a)” and adding “paragraph (a) of this section” in its place; and

f. Removing from paragraph (f) “DOD”, “9.202(a)”, and “9.202(b)” wherever they appear and adding “DoD”, “paragraph (a) of this section”, and “paragraph (b) of this section” in their place, respectively.

9.204 [Amended]

79. Amend section 9.204 by removing from paragraph (d) “(see 9.202(a)(2)(i) above)” and adding “(see 9.202(a)(2)(i))” in its place.

80. Amend section 9.305 by removing the last sentence and adding in its place “Costs incurred based on this authorization are allocable to the contract for—” and adding paragraphs (a) and (b) to read as follows:

9.305 Risk.

* * * * *

(a) Progress payments; and

(b) Termination settlements if the contract is terminated for the convenience of the Government.

9.306 [Amended]

81. Amend section 9.306 by—

a. Removing from paragraph (a)(3) “test report.” and adding “test report;” in its place;

b. Removing from paragraph (b)(2) “for approval.” and adding “for approval;” in its place;

c. Removing from paragraph (c) “(see 52.209-3(h) and 52.209-4(i);” and adding “(see 52.209-3(h) and 52.209-4(i));” in its place;

d. Removing from paragraph (d) “9.306(c)” and adding “paragraph (c) of this section” in its place;

e. Removing from paragraph (f) “quantity (see 11.404)” and adding “quantity (see 11.403)” in its place;

f. Removing from paragraph (g) “9.306(c)” and adding “paragraph (c) of this section” in its place;

g. Removing from paragraph (h) “and”; and

h. Removing from paragraph (i) “(when appropriate).” and adding “(when appropriate); and” in its place.

82. Amend section 9.308-1 by revising paragraphs (a)(1) and (b)(1) to read as follows:

9.308-1 Testing performed by the contractor.

(a)(1) The contracting officer shall insert the clause at 52.209-3, First Article Approval—Contractor Testing, in solicitations and contracts when a fixed-price contract is contemplated and it is intended that the contract require—

(i) First article approval; and

(ii) That the contractor be required to conduct the first article testing.

* * * * *

(b)(1) The contracting officer shall insert a clause substantially the same as the clause at 52.209-3, First Article Approval—Contractor Testing, in solicitations and contracts when a cost-reimbursement contract is contemplated and it is intended that the contract require—

(i) First article approval; and

(ii) That the contractor be required to conduct the first article test.

* * * * *

9.401 [Amended]

83. Amend section 9.401 by removing “other Government-wide exclusion” wherever it appears and adding “other Governmentwide exclusion” in its place.

84. Amend section 9.403 by revising the defined terms “Affiliates”, “Debarring official”, and “Suspending official” to read as follows:

9.403 Definitions.

* * * * *

Affiliates. (1) Business concerns, organizations, or individuals are affiliates of each other if, directly or indirectly—

(i) Either one controls or has the power to control the other; or

(ii) A third party controls or has the power to control both.

(2) Indicia of control include, but are not limited to, interlocking management or ownership, identity of interests among family members, shared facilities and equipment, common use of employees, or a business entity organized following the debarment, suspension, or proposed debarment of a contractor which has the same or similar management, ownership, or principal employees as the contractor that was debarred, suspended, or proposed for debarment.

* * * * *

Debarring official means—

(1) An agency head; or

(2) A designee authorized by the agency head to impose debarment.

* * * * *

Suspending official means—

(1) An agency head; or

(2) A designee authorized by the agency head to impose suspension.

* * * * *

85. Amend section 9.406-1 by revising paragraph (b) to read as follows:

9.406-1 General.

* * * * *

(b) Debarment constitutes debarment of all divisions or other organizational elements of the contractor, unless the debarment decision is limited by its terms to specific divisions, organizational elements, or commodities. The debarring official may extend the debarment decision to include any affiliates of the contractor if they are—

(1) Specifically named; and

(2) Given written notice of the proposed debarment and an opportunity to respond (see 9.406-3(c)).

* * * * *

86. Amend section 9.406-2 by revising paragraph (a)(1) to read as follows:

9.406-2 Causes for debarment.

* * * * *

(a) * * *

(1) Commission of fraud or a criminal offense in connection with—

(i) Obtaining;

(ii) Attempting to obtain; or

(iii) Performing a public contract or subcontract;

* * * * *

9.406-3 [Amended]

87. Amend section 9.406-3 by removing from paragraph (d)(1) “a conviction or judgment” and adding “a conviction or civil judgment” in its place.

9.406-4 [Amended]

88. Amend section 9.406-4 by removing from paragraph (c)(5) “debarring offical” and adding “debarring official” in its place.

89. Amend section 9.407-1 by removing “(b)(2)” and adding in its place “(2)” and revising paragraph (c) to read as follows:

9.407-1 General.

* * * * *

(c) Suspension constitutes suspension of all divisions or other organizational elements of the contractor, unless the suspension decision is limited by its terms to specific divisions, organizational elements, or commodities. The suspending official may extend the suspension decision to include any affiliates of the contractor if they are—

(1) Specifically named; and

(2) Given written notice of the suspension and an opportunity to respond (see 9.407-3(c)).

* * * * *

90. Amend section 9.407-2 by—

a. Revising paragraph (a)(1);

b. Removing from paragraph (a)(3) “property; or” and adding “property;” in its place;

c. Removing from paragraph (a)(7) “delinquent; or” and adding “delinquent;” in its place; and

d. Removing from paragraph (b) “paragraph (a) above” and adding “paragraph (a) of this section” in its place.

The revision reads as follows:

9.407-2 Causes for suspension.

(a) * * *

(1) Commission of fraud or a criminal offense in connection with—

(i) Obtaining;

(ii) Attempting to obtain; or

(iii) Performing a public contract or subcontract;

* * * * *

9.502 [Amended]

91. Amend section 9.502 by removing from paragraph (c) “An oganizational” and adding “An organizational” in its place.

9.505 [Amended]

92. Amend section 9.505 by removing from paragraph (b) introductory text “award for any” and adding “award of any” in its place.

93. Amend section 9.505-1 by revising paragraph (a) to read as follows:

9.505-1 Providing systems engineering and technical direction.

(a) A contractor that provides systems engineering and technical direction for a system but does not have overall contractual responsibility for its development, its integration, assembly, and checkout, or its production shall not—

(1) Be awarded a contract to supply the system or any of its major components; or

(2) Be a subcontractor or consultant to a supplier of the system or any of its major components.

* * * * *

9.505-2 [Amended]

94. Amend section 9.505-2 by—

a. Removing from paragraph (a)(1) “This rule” and adding “The restriction in this paragraph (a)(1)” in its place;

b. Removing from paragraph (b)(2) “unless excepted in subparagraph (1) above” and adding “unless excepted in paragraph (b)(1) of this section” in its place; and

c. Removing from paragraph (b)(3) “9.505-2(a)(3)” and adding “paragraph (a)(3) of this section” in its place.

95. Amend section 9.505-4 by revising paragraph (a) to read as follows:

9.505-4 Obtaining access to proprietary information.

(a) When a contractor requires proprietary information from others to perform a Government contract and can use the leverage of the contract to obtain it, the contractor may gain an unfair competitive advantage unless restrictions are imposed. These restrictions protect the information and encourage companies to provide it when necessary for contract performance. They are not intended to protect information—

(1) Furnished voluntarily without limitations on its use; or

(2) Available to the Government or contractor from other sources without restriction.

* * * * *

9.507-1 [Amended]

96. Amend section 9.507-1 by removing from the introductory text “contractor's eligibilty” and adding “contractor's eligibility” in its place.

9.507-2 [Amended]

97. Amend section 9.507-2 by removing from the introductory text “(see 9.508-1(d) of this subsection)” and adding “(see 9.506(d))” in its place.

98. Amend section 9.508 by—

a. Removing from the introductory text “following” and adding “of this section” in its place; and

b. Revising paragraph (h).

The revision reads as follows:

9.508 Examples.

* * * * *

(h) Company A is selected to study the use of lasers in communications. The agency intends to ask that firms doing research in the field make proprietary information available to Company A. The contract must require Company A to—

(1) Enter into agreements with these firms to protect any proprietary information they provide; and

(2) Refrain from using the information in supplying lasers to the Government or for any purpose other than that for which it was intended.

* * * * *

99. Amend section 9.602 by revising paragraph (a) to read as follows:

9.602 General.

(a) Contractor team arrangements may be desirable from both a Government and industry standpoint in order to enable the companies involved to—

(1) Complement each other's unique capabilities; and

(2) Offer the Government the best combination of performance, cost, and delivery for the system or product being acquired.

* * * * *

PART 11—DESCRIBING AGENCY NEEDS

11.102 [Amended]

100. Amend section 11.102 by removing “11.201(d)(3)” and adding “(3)” in its place and removing “Government Printing Office (GPO)” and adding “Government Publishing Office (GPO)” in its place.

11.201 [Amended]

101. Amend section 11.201 by adding at the end of paragraph (c) introductory text a dash and removing from paragraph (d)(4) “Government Printing Office” and adding “Government Publishing Office” in its place.

102. Amend section 11.604 by revising the section heading to read as follows:

11.604 Solicitation provision and contract clause.

* * * * *

PART 16—TYPES OF CONTRACTS

16.505 [Amended]

103. Amend section 16.505 by—

a. Adding at the end of paragraph (a) heading a period;

b. Removing from paragraphs (a)(3) and (a)(9)(i) “Subpart” and adding “subpart” in its place;

c. Adding at the end of paragraph (b)(1)(v)(A)(5)(i) “or”;

d. Removing from paragraph (b)(2)(ii) introductory text “paragraphs” and adding “paragraph” in its place;

e. Removing from paragraph (b)(2)(ii)(B)(10) “(b)(2)(i)(A)” and adding “paragraphs (b)(2)(i)(A)” in its place;

f. Removing from paragraph (b)(2)(ii)(C)(4) “Acquisition, Technology, and Logistics” and adding “Acquisition and Sustainment” in its place;

g. Removing from paragraph (b)(2)(ii)(D)(1)(ii) “(b)(2)(ii)(B)” and adding “paragraph (b)(2)(ii)(B)” in its place;

h. Removing from paragraph (b)(2)(ii)(D)(3) “subsection” and adding “section” in its place;

i. Removing from paragraph (b)(2)(ii)(D)(4) “paragraphs (1) and (3)” and adding “paragraphs (b)(2)(ii)(D)(1) and (3) of this section” in its place;

j. Adding at the end of paragraph (b)(2)(ii)(D)(5)(ii) “of this section”;

k. Removing from paragraph (b)(7)(ii) “(b)(2)” and adding “(b)(2) of this section” in its place; and

l. Removing from paragraph (c)(1) introductory text “(c)(3)” and adding “(3) of this section” in its place.

PART 17—SPECIAL CONTRACTING METHODS

104. Amend section 17.703 by—

a. Revising paragraph (c); and

b. Removing from paragraph (e) “”Waiver”” and “Acquisition, Technology, and Logistics” and adding “Waiver” and “Acquisition and Sustainment” in their places, respectively.

The revision reads as follows:

17.703 Policy.

* * * * *

(c) Within 30 days of the beginning of each fiscal year, submit nondefense agency certifications of compliance to the Principal Director, Defense Pricing and Contracting at: Department of Defense, Office of the Under Secretary of Defense (Acquisition and Sustainment), Defense Pricing and Contracting, Contract Policy, Room 3B938, 3060 Defense Pentagon, Washington DC 20301-3060.

* * * * *

PART 19—SMALL BUSINESS PROGRAMS

19.702 [Amended]

105. Amend section 19.702 by—

a. Removing from paragraph (b) introductory text “subparagraphs (a)(1) and (2) above” and adding “paragraphs (a)(1) and (2) of this section” in its place; and

b. Removing from paragraph (c) “15 U.S.C. 637(d)(8)” and adding “15 U.S.C. 637(d)(9)” in its place; and

c. Removing from paragraph (d) “15. U.S.C. 637(d)(11)” and adding “15 U.S.C. 637(d)(12)” in its place.

PART 22—APPLICATION OF LABOR LAWS TO GOVERNMENT ACQUISITIONS

22.1008-1 [Amended]

106. Amend section 22.1008-1 by removing from paragraph (e)(1) “Government Printing Office” and adding “Government Publishing Office” in its place.

PART 26—OTHER SOCIOECONOMIC PROGRAMS

26.205 [Amended]

107. Amend section 26.205 by removing from paragraph (b) “required to in SAM” and adding “required to register in SAM” in its place.

PART 30—COST ACCOUNTING STANDARDS ADMINISTRATION

30.102 [Amended]

108. Amend section 30.102 by removing “Government Printing Office” and adding “Government Publishing Office” in its place.

PART 31—CONTRACT COST PRINCIPLES AND PROCEDURES

109. Amend section 31.101 by revising the last sentence to read as follows:

31.101 Objectives.

* * * Class deviations for the Department of Defense require advance approval of the Principal Director, Defense Pricing and Contracting, Office of the Under Secretary of Defense for Acquisition and Sustainment.

31.205-46 [Amended]

110. Amend section 31.205-46 by—

a. Removing from paragraph (a)(2) introductory text “(a)(2) (i) through (iii) of this paragraph” and adding “paragraphs (a)(2)(i) through (iii) of this section” in its place;

b. Removing from paragraphs (a)(2)(i) and (ii) “Government Printing Office” and adding “Government Publishing Office” in their places, respectively;

c. Removing from paragraph (a)(2)(iii) “(a)(2) (i) and (ii) of this paragraph” and “Government Printing Office” and adding “paragraphs (a)(2)(i) and (ii) of this section” and “Government Publishing Office” in their places, respectively;

d. Removing from paragraph (a)(3) introductory text “(a)(2) (i), (ii), or (iii) or this section” and adding “paragraph (a)(2)(i), (ii), or (iii) of this section” in its place;

e. Removing from paragraph (a)(3)(i) “(a)(2) (i)” and adding “paragraph (a)(2)(i)” in its place;

f. Removing from paragraph (a)(3)(iv) “subsection” and “(a)(3)(ii)” and adding “section” and “(a)(3)(ii) of this section” in their place, wherever they appear;

g. Removing from paragraph (a)(4) “Subparagraphs (a)(2) and (a)(3) of this subsection” and “subdivisions (a)(2)(i), (ii), and (iii) of this subsection” and adding “Paragraphs (a)(2) and (3) of this section” and “paragraphs (a)(2)(i), (ii), and (iii) of this section” in their place, respectively;

h. Removing from paragraph (a)(5) “(a)(3)” and adding “(3)” in its place;

i. Removing from paragraph (c)(1) “subparagraph” and adding “paragraph (c)” in its place; and

j. Removing from paragraph (c)(2) introductory text “subsection” and adding “section” in its place, wherever it appears.

PART 45—GOVERNMENT PROPERTY

45.602-3 [Amended]

111. Amend section 45.602-3 by—

a. Removing “subsection” and adding “section” in its place, wherever it appears; and

b. Removing from paragraph (b)(3) “Government Printing Office” and adding “Government Publishing Office” in its place.

PART 50—EXTRAORDINARY CONTRACTUAL ACTIONS AND THE SAFETY ACT

50.101-1 [Amended]

112. Amend section 50.101-1 by removing from paragraph (b) “Government Printing Office” and adding “Government Publishing Office” in its place.

PART 52—SOLICITATION PROVISIONS AND CONTRACT CLAUSES

113. Amend section 52.212-5 by revising the date of the clause and removing from paragraph (b)(59) “(15 U.S.C. 637(d)(12))” and adding “(15 U.S.C. 637(d)(13))” in its place to read as follows:

52.212-5 Contract Terms and Conditions Required To Implement Statutes or Executive Orders—Commercial Items.

* * * * *

Contract Terms and Conditions Required To Implement Statutes or Executive Orders—Commercial Items (May 2019)

* * * * *

PART 53—FORMS

114. Revise section 53.107 to read as follows:

53.107 Obtaining forms.

Executive agencies shall obtain standard and optional forms from the General Services Administration (GSA) Forms Library at https://www.gsa.gov/forms. Agency forms are available from the prescribing agency.

[FR Doc. 2019-06626 Filed 5-3-19; 8:45 am]

BILLING CODE 6820-EP-P